DEPARTMENT OF ENERGY

Federal Energy Regulatory Commission

[Docket No. EC00-85-000, et al.]

Philbro Power LLC, et al.; Electric Rate and Corporate Regulation Filings

May 9, 2000.

Take notice that the following filings have been made with the Commission:

1. Phibro Power LLC

[Docket No. EC00-85-000]

Take notice that on May 1, 2000, as amended on May 3, 2000, Phibro Power LLC (Phibro Power) tendered for filing an application for authorization under Section 203 of the Federal Power Act to transfer its power marketing business, including its jurisdictional market-based rate schedule (Rate Schedule FERC No. 1) to its affiliate Phibro Inc. (Phibro). Both Phibro and Phibro Power are wholly-owned subsidiaries of Salomon Smith Barney Holdings Inc., which, in turn, is a wholly-owned subsidiary of Citigroup Inc.

Comment date: June 2, 2000, in accordance with Standard Paragraph E at the end of this notice.

2. EME/CDL Trust

[Docket No. EG00-135-000]

Take notice that on May 4, 2000, EME/CDL Trust filed additional information regarding its application for a determination of exempt wholesale generator status in this docket. The applicant is a business trust created pursuant to the laws of the State of Delaware that will be engaged directly and exclusively in holding title to 71 combustion turbine units and associated generation and transmission equipment in Illinois, totaling approximately 934 MW (summer rated). The Facilities will be leased by applicant to Midwest Generation, LLC, which will operate the Facilities as an exempt wholesale generator.

Comment date: May 30, 2000, in accordance with Standard Paragraph E at the end of this notice. The Commission will limit its consideration of comments to those that concern the adequacy or accuracy of the application.

3. NRG Energy Paxton, Inc.

[Docket No. EG00-136-000]

Take notice that on April 26, 2000, NRG Energy Center Paxton, Inc. filed with the Federal Energy Regulatory Commission an application for determination of exempt wholesale generator status pursuant to section 329a0(1) of the Public Utility Holding Company Act of 1935 (PUHCA0. The applicant is a corporation organized under the laws of the State of Delaware that will be engaged directly and exclusively in owning and operating a 12.6 MW dual-fired cogeneration facility, located on the property of the Harrisburg Steam Works in Harrisburg, Pennsylvania and selling electric energy at wholesale.

Comment date: May 30, 2000, in accordance with Standard Paragraph E at the end of this notice. The Commission will limit its consideration of comments to those that concern the adequacy or accuracy of the application.

4. Dearborn Industrial Generation, L.L.C.

[Docket No. EG00-142-000]

Take notice that on May 2, 2000, Dearborn Industrial Generation, L.L.C., Fairlane Plaza South, 330 Town Center Town Drive, Suite 1000. Dearborn, Michigan 48126-2712, filed with the Federal Energy Regulatory Commission an application for determination of exempt wholesale generator status pursuant to Part 365 of the Commission's regulations.

Dearborn Industrial Generation, L.L.C. owns a facility that will have a nominal capacity of approximately 710 MW, with the possibility of the addition of another 100 MW in net capacity, located in Dearborn, Michigan and is a Michigan limited liability company that is a wholly-owned subsidiary of CMS Generation Co. a Michigan corporation that is itself a wholly-owned indirect subsidiary of CMS Energy Corporation, also a Michigan corporation.

Comment date: May 30, 2000, in accordance with Standard Paragraph E at the end of this notice.

5. Dearborn Generation Operating, L.L.C.

[Docket No. EG00-143-000]

Take notice that on May 2, 2000, Dearborn Generation Operating, L.L.C., Fairlane Plaza South, 330 Town Center Town Drive, Suite 1000, Dearborn, Michigan 48126-2712, filed with the Federal Energy Regulatory Commission an application for determination of exempt wholesale generator status pursuant to Part 365 of the Commission's regulations.

Dearborn Generation Operating, L.L.C. operates a facility that will have a nominal capacity of approximately 710 MW, with the possibility of the addition of another 100 MW in net capacity, located in Dearborn, Michigan and is a Michigan limited liability company that is a wholly-owned subsidiary of CMS Generation Co. a Michigan corporation that is itself a wholly-owned indirect subsidiary of CMS Energy Corporation, also a Michigan corporation.

Comment date: May 30, 2000, in accordance with Standard Paragraph E at the end of this notice. The Commission will limit its consideration of comments to those that concern the adequacy or accuracy of the application.

6. Baconton Power LLC

[Docket No. EG00-146-000]

Take notice that on May 8, 2000, Baconton Power LLC, 1499 38th Blvd. N.W., Cairo, Georgia 31728, filed with the Federal Energy Regulatory Commission an application for determination of exempt wholesale generator status pursuant to part 365 of the Commission's regulations.

Baconton Power LLC, a Georgia limited liability company, is managing the construction of and will own and operate four 50 MW (nominal summer rating) dual fuel combined cycle natural gas turbines located in Mitchell County, Georgia. The Facility includes the above described generating units as well as step-up transformers, leads, and 230 kV buses interconnecting the facility to the transmission system of the Georgia Transmission Corporation's 230 kV Mitchell to Cotton transmission line, as well as certain common natural gas pipeline, water, and water facilities located on the plant site. The Facility will be used exclusively for the generation of electric energy to be sold at wholesale, with the capacity and energy generation services to be sold to Coral Power, L.L.C. under a twenty year tolling agreement.

Comment date: May 26, 2000, in accordance with Standard Paragraph E at the end of this notice. The Commission will limit its consideration of comments to those that concern the adequacy or accuracy of the application.

7. SOWEGA Power LLC

[Docket No. EG00-144-000]

Take notice that on May 8, 2000, SOWEGA Power LLC, 1499 38th Blvd. N.W., Cairo, Georgia 31728, filed with the Federal Energy Regulatory Commission an application for determination of exempt wholesale generator status pursuant to part 365 of the Commission's regulations.

SOWEGA Power LLC, a Georgia limited liability company, is the owner of two 50 MW (summer nominal rating), dual fuel combined cycle natural gas turbines located in Mitchell County, Georgia. The Facility includes the above described generating units as well as step-up transformers, leads, and commonly owned 230 kV buses interconnecting the facility to the transmission system of the Georgia Transmission Corporation's 230 kV Mitchell to Cotton transmission line. The Facility will be used exclusively for the generation of electric energy to be sold at wholesale, although a portion of the output will be sold to two affiliates of SOWEGA Power, Grady Electric Membership Cooperative and Three Notch Electric Membership Cooperative, neither of which will resell the power to an affiliate company or associate company and neither of which is subject to State commission retail rate regulation.

Comment date: May 26, 2000, in accordance with Standard Paragraph E at the end of this notice. The Commission will limit its consideration of comments to those that concern the adequacy or accuracy of the application.

8. SOWEGA Energy Resources LLC

[Docket No. EG00-145-000]

Take notice that on May 8, 2000, SOWEGA Energy Resources, LLC (SER),1499 38th Blvd. N.W., Cairo, Georgia 31728, filed with the Federal Energy Regulatory Commission an application for determination of exempt wholesale generator status pursuant to part 365 of the Commission's regulations.

SER, a Georgia limited liability company, is the majority owner of Baconton Power LLC and is expected to become the sole owner of SOWEGA Power LLC, each of which has filed an application for EWG status relating to their ownership of dual fuel combined cycle natural gas turbines located in Mitchell County, Georgia. SER seeks EWG status relating to its ownership in these two affiliates.

Comment date: May 26, 2000, in accordance with Standard Paragraph E at the end of this notice. The Commission will limit its consideration of comments to those that concern the adequacy or accuracy of the application.

9. ISO New England Inc.

[Docket No. ER00-2052-001]

Take notice that on May 1, 2000, ISO New England Inc. filed a correction to Appendix C to its March 31, 2000 filing in the referenced docket.

Copies of said filing have been served upon the parties to these proceedings, the Secretary of the NEPOOL Participants Committee, as well as upon the utility regulatory agencies of the six New England States and the New England Conference of Public Utilities Commissioners.

Comment date: May 22, 2000, in accordance with Standard Paragraph E at the end of this notice.

10. Avista Corporation, Vermont Electric Power Company and Central Power and Light Company, et al.; Southern Company Services, Inc. and Citizens Utilities Company; The Detroit Edison Company, Consolidated Edison Company of New York, Inc., The Washington Water Power Company and Florida Power & Light Co.; Western Resources, Inc.; Wisconsin Power and Light Company, Interstate Power Company, Seminole Electric Cooperative, Inc. and Cleco Utility Group, Inc.; Entergy Services, Inc.

[Docket Nos. OA97-21-001; OA97-7-001; OA97-288-001 and OA97-263-001; OA97-215-001; OA96-184-003 and OA97-643-001; OA997-681-001; OA96-138-007; OA97-20-001; OA97-245-001 and OA97-699-001; OA97-626-001 and OA96-203-003; OA97-409-002; OA97-633-001; OA97-140-002; OA97-282-001, OA97-324-001, OA97-325-001 and OA97-326-001; OA96-158-004 and OA97-657-001]

Take notice that on May 1, 2000, the above-referenced companies filed a report in compliance with the Commission's February 29, 2000 order in Allegheny Power Service Co., et al., 90 FERC ¶ 61,224 (2000).

Comment date: June 8, 2000, in accordance with Standard Paragraph E at the end of this notice.

11. Cleveland Electric Illuminating Company

[Docket Nos. OA97-141-001 and OA97-491-001]

Take notice that on April 28, 2000, Cleveland Electric Illuminating Company tendered for filing with the Federal Energy Regulatory Commission (Commission), a report in compliance with the Commission's order in Allegheny Power Service Co., et al., 90 FERC ¶ 61,224 (2000).

Comment date: June 8, 2000, in accordance with Standard Paragraph E at the end of this notice.

12. Florida Power Corporation

[Docket No. ER00-2352-000 ]

Take notice that on April 28, 2000, Florida Power Corporation (Florida Power), tendered for filing revisions to the capacity charges, reservation fees and energy adders for various interchange services provided by Florida Power pursuant to interchange contracts as follows:

Rate schedule | Customer
65 | Southeastern Power Administration
80 | Tampa Electric Company
81 | Florida Power & Light Company
82 | City of Homestead
86 | Orlando Utilities Commission
88 | Gainesville Regional Utility
91 | Jacksonville Electric Authority
92 | City of Lakeland
94 | Kissimmee Utility Authority
95 | City of St. Cloud
101 | City of Lake Worth
102 | Florida Power & Light Company
103 | City of Starke
104 | City of New Smyrna Beach
105 | Florida Municipal Power Agency
108 | City of Key West
119 | Reedy Creek Improvement District
122 | City of Tallahassee
128 | Seminole Electric Cooperative, Inc.
139 | Oglethorpe Power Corp.
141 | City of Vero Beach
142 | Big Rivers Electric Corporation
148 | Alabama Electric Cooperative, Inc.
153 | Enron Power Marketing, Inc.
154 | Catex Vitol Electric, L.L.C.
155 | Louis Dreyfus Electric Power, Inc.
156 | Electric Clearing House, Inc.
157 | LG & E Power Marketing, Inc.
158 | MidCon Power Service Corp.
159 | Koch Power Services Company
160 | Sonat Power Marketing, Inc.
161 | Citizens Lehman Power Sales
162 | AES Power, Inc.
163 | Intercoast Power Marketing Company
164 | Valero Power Service Company
166 | Eastex Power Marketing, Inc.
167 | NorAm Energy Services, Inc.
168 | Western Power Services
169 | CNG Power Services Corporation
170 | Calpine Power Services Company
171 | SCANA Energy Marketing, Inc.
172 | PanEnergy Trading & Market Services
173 | Coral Power, L.L.C.
174 | Aquila Power Corporation
175 | The Energy Authority, Inc.
176 | NP Energy Inc.
177 | Morgan Stanley Capital Group, Inc.

The interchange services which are affected by these revisions are (1) Service Schedule A—Emergency Service; (2) Service Schedule B—Short Term Firm Service; (3) Service Schedule D—Firm Service; (4) Service Schedule F—Assured Capacity and Energy Service; (5) Service Schedule G—Backup Service; (6) Service Schedule H—Reserve Service; (7) Service Schedule I—Regulation Service; (8) Service Schedule OS -Opportunity Sales; (9) Service Schedule RE—Replacement Energy Service; (10) Contract for Assured Capacity And Energy With Florida Power & Light Company; (11) Contract for Scheduled Power and Energy with Florida Power & Light Company.

Florida Power requests that the amended revised capacity charges, reservation fees and energy adder be made effective on May 1, 2000. Florida Power requests waiver of the Commission's sixty-day notice requirement. If waiver is denied, Florida Power requests that the filing be made effective 60 days after the filing date.

Copies of this filing were served on the Orlando Utilities Commission, the Utilities Board of the City of Key West and the Utilities Commission of New Smyrna Beach.

Comment date: May 19, 2000, in accordance with Standard Paragraph E at the end of this notice.

13. Entergy Services, Inc.

[Docket No. ER00-2353-000 ]

Take notice that on April 28, 2000, Entergy Services, Inc. (Entergy Services), as agent for System Energy Resources, Inc. (SERI), tendered for filing the annual informational update (Update) containing the 2000 redetermination of the Monthly Capacity Charges, prepared in accordance with the provisions of SERI's Power Charge Formula (PCF) Tariff. Entergy Services states that the Update redetermines the formula rate in accordance with the annual rate redetermination provisions of Section 2(B) of the PFC.

Comment date: May 19, 2000, in accordance with Standard Paragraph E at the end of this notice.

14. Tampa Electric Company

[Docket No. ER00-2354-000]

Take notice that on April 28, 2000, Tampa Electric Company (Tampa Electric), tendered for filing an updated weekly capacity charge for short term power service provided under its interchange service contract with Alabama Power Company, Georgia Power Company, Gulf Power Company, Mississippi Power Company, and Savannah Electric and Power Company (collectively, Southern Companies). Tampa Electric also tendered for filing updated caps on energy charges for emergency assistance and short term power service under the contract.

Tampa Electric requests that the updated capacity charge and caps on charges be made effective as of May 1, 2000, and therefore requests waiver of the Commission's notice requirement.

Tampa Electric states that a copy of the filing has been served upon Southern Companies and the Florida Public Service Commission.

Comment date: May 19, 2000, in accordance with Standard Paragraph E at the end of this notice.

15. Ameren Services Company

[Docket No. ER00-2361-000]

Take notice that on May 1, 2000, Ameren Services Company (Ameren), tendered for filing a revised Network Integration Transmission Service Agreement (Network Transmission Agreement) and a revised Network Operating Agreement with Wayne-White Counties Electric Cooperative, Inc., (Wayne-White). The revised Network Transmission Agreement includes a Distribution Facilities Charge.

Ameren seeks an effective date of June 1, 2000, subject to conditions, or, in the alternative, an effective date of May 2, 2000 for the revised Network Transmission Agreement and a date sixty days from filing for the revised Network Operating Agreement. Accordingly, Ameren seeks waiver of the Commission's notice requirements with respect to the Network Transmission Agreement.

Copies of the filing have been served on Wayne-White and on the Illinois Commerce Commission.

Comment date: May 22, 2000, in accordance with Standard Paragraph E at the end of this notice.

16. Entergy Services, Inc.

[Docket No. ER00-2355-000]

Take notice that on April 28, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement both between Entergy Services, Inc., as agent for the Entergy Operating Companies, and Skygen Energy Marketing, LLC.

Comment date: May 19, 2000, in accordance with Standard Paragraph E at the end of this notice.

17. Carolina Power & Light Company

[Docket No. ER00-2357-000]

Take notice that on April 28, 2000, Carolina Power & Light Company (CP&L), tendered for filing a Service Agreement for Short-Term Firm Point-to-Point Transmission Service with MIECO INC., and a Service Agreement for Non-Firm Point-to-Point Transmission Service with MIECO INC. Service to this Eligible Customer will be in accordance with the terms and conditions of Carolina Power & Light Company's Open Access Transmission Tariff.

CP&L is requesting an effective date of April 10, 2000 for each Agreement.

Copies of the filing were served upon the North Carolina Utilities Commission and the South Carolina Public Service Commission.

Comment date: May 19, 2000, in accordance with Standard Paragraph E at the end of this notice.

18. Tampa Electric Company

[Docket No. ER00-2358-000]

Take notice that on April 28, 2000, Tampa Electric Company (Tampa Electric) tendered for filing updated transmission service rates under its agreements to provide qualifying facility transmission service for Mulberry Phosphates, Inc. (Mulberry), Cargill Fertilizer, Inc. (Cargill), and Auburndale Power Partners, Limited Partnership (Auburndale).

Tampa Electric proposes that the updated transmission service rates be made effective as of May 1, 2000, and therefore requests waiver of the Commission's notice requirement.

Copies of the filing have been served on Mulberry, Cargill, Auburndale, and the Florida Public Service Commission.

Comment date: May 19, 2000, in accordance with Standard Paragraph E at the end of this notice.

19. Northern States Power Company (Minnesota) and Northern States Power Company (Wisconsin)

[Docket No. ER00-2359-000]

Take notice that on April 28, 2000, Northern States Power Company (Minnesota) and Northern States Power Company (Wisconsin) (jointly NSP), tendered for filing two Firm Point-to-Point Transmission Service Agreements between NSP and NSP Energy Marketing.

NSP requests that the Commission accept the Agreements effective May 1, 2000, and requests waiver of the Commission's notice requirements in order for the agreements to be accepted for filing on the date requested.

Comment date: May 19, 2000, in accordance with Standard Paragraph E at the end of this notice.

20. Portland General Electric Company

[Docket No. ER00-2374-000]

Take notice that on April 27, 2000, Portland General Electric Company (PGE), tendered for filing under PGE's Final Rule pro forma tariff (FERC Electric Tariff First Revised Volume No. 8, Docket No. OA96-137-000), executed Service Agreements for Short-Term Firm and Non-Firm Point-to-Point Transmission Service with Bonneville Power Administration.

Pursuant to 18 CFR Section 35.11, and the Commission's Order in Docket No. PL93-2-002 issued July 30, 1993, PGE respectfully requests that the Commission grant a waiver of the notice requirements of 18 CFR Section 35.3 to allow the Service Agreement to become effective April 1, 2000.

A copy of this filing was caused to be served upon Bonneville Power Administration, as noted in the filing letter.

Comment date: May 18, 2000, in accordance with Standard Paragraph E at the end of this notice.

21. The Montana Power Company

[Docket No. ER00-2375-000]

Take notice that on May 1, 2000, The Montana Power Company (Montana Power), tendered for filing with the Federal Energy Regulatory Commission pursuant to 18 CFR 35.13 a revised Schedule 4, Energy Imbalance Service, to Montana's FERC Electric Tariff, Fourth Revised Volume No. 5 (Open Access Transmission Tariff).

Montana Power requests that the Commission allow the schedule to become effective July 1, 2000.

A copy of the filing was served upon the list of parties included on the Certificate of Service provided with the filing.

Comment date: May 22, 2000, in accordance with Standard Paragraph E at the end of this notice.

22. The Montana Power Company

[Docket No. ER00-2376-000]

Take notice that on May 1, 2000, The Montana Power Company (Montana), tendered for filing with the Federal Energy Regulatory Commission pursuant to 18 CFR 35.13 executed Firm and Non-Firm Point-To-Point Transmission Service Agreements with Southern Company Energy Marketing L.P., under Montana's FERC Electric Tariff, Fourth Revised Volume No. 5 (Open Access Transmission Tariff).

A copy of the filing was served upon Southern Company Energy Marketing L.P.

Comment date: May 22, 2000, in accordance with Standard Paragraph E at the end of this notice.

23. Allegheny Energy Service Corporation, on behalf of Monongahela Power Company, The Potomac Edison Company and West Penn Power Company (Allegheny Power)

[Docket No. ER00-2377-000]

Take notice that on May 1, 2000, Allegheny Energy Service Corporation on behalf of Monongahela Power Company, The Potomac Edison Company and West Penn Power Company (Allegheny Power), tendered for filing Schedule 11, Retail Transmission Service—Maryland to its Pro Forma Open Access Transmission Tariff. Allegheny Power will provide retail transmission services to Maryland customers pursuant to the schedule as of July 1, 2000.

Copies of the filing have been provided to the Public Utilities Commission of Ohio, the Pennsylvania Public Utility Commission, the Maryland Public Service Commission, the Virginia State Corporation Commission, the West Virginia Public Service Commission.

Comment date: May 22, 2000, in accordance with Standard Paragraph E at the end of this notice.

24. FirstEnergy System

[Docket No. ER00-2349-000]

Take notice that on April 28, 2000, FirstEnergy System tendered for filing a Service Agreement to provide Non-Firm Point-to-Point Transmission Service for Orion Power MidWest, the Transmission Customer. Services are being provided under the FirstEnergy System Open Access Transmission Tariff submitted for filing by the Federal Energy Regulatory Commission in Docket No. ER97-412-000.

The proposed effective date under this Service Agreement is April 26, 2000 for the above mentioned Service Agreement in this filing.

Comment date: May 19, 2000, in accordance with Standard Paragraph E at the end of this notice.

25. California Independent System Operator Corporation

[Docket No. ER00-1239-001]

Take notice that on April 28, 2000, the California Independent System Operator Corporation (ISO), tendered for filing changes to the ISO Tariff to comply with the Commission's order in California Independent System Operator Corp., 90 FERC ¶ 61,316 (2000). The ISO states that this filing has been served upon all parties in this proceeding.

Comment date: May 19, 2000, in accordance with Standard Paragraph E at the end of this notice.

26. New York Independent System Operator, Inc.

[Docket No. ER00-1483-001]

Take notice that on April 28, 2000 the New York Independent System Operator, Inc. (NYISO), tendered for filing a compliance filing in the above-referenced proceeding.

A copy of this filing was served upon all persons on the Commission's official service list.

Comment date: May 19, 2000, in accordance with Standard Paragraph E at the end of this notice.

27. Tampa Electric Company

[Docket No. ER00-2351-000]

Take notice that on April 28, 2000, Tampa Electric Company (Tampa Electric), tendered for filing cost support schedules showing an updated daily capacity charge for its scheduled/short-term firm interchange service provided under interchange contracts with each of 17 other utilities. Tampa Electric also tendered for filing updated caps on the charges for emergency and scheduled/short-term firm interchange transactions under the same contracts.

In addition, Tampa Electric tendered for filing a revised transmission loss factor, and revised open access transmission tariff sheets on which the transmission loss factor is stated.

Tampa Electric requests that the updated daily capacity charge and caps on charges, and the revised transmission loss factor and tariff sheets, be made effective as of May 1, 2000, and therefore requests waiver of the Commission's notice requirement.

Tampa Electric states that a copy of the filing has been served upon each of the parties to the affected interchange contracts with Tampa Electric and each party to a service agreement under Tampa Electric's open access tariff, as well as the Florida and Georgia Public Service Commissions.

Comment date: May 19, 2000, in accordance with Standard Paragraph E at the end of this notice.

28. Northern Maine Independent System Administrator, Inc.

[Docket No. ER00-882-001

Take notice that on April 28, 2000, Northern Maine Independent System Administrator, Inc. (NMISA) made its compliance filing as required under Ordering Paragraph (B) of the Commission's April 14, 2000 order in the above-referenced docket.

Copies of the filing were served on all parties to the proceeding.

Comment date: May 19, 2000, in accordance with Standard Paragraph E at the end of this notice.

29. FirstEnergy System

[Docket No. ER00-2350-000]

Take notice that on April 28, 2000, FirstEnergy System tendered for filing Service Agreements to provide Firm Point-to-Point Transmission Service for Orion Power Midwest, the Transmission Customer. Services are being provided under the FirstEnergy System Open Access Transmission Tariff submitted for filing by the Federal Energy Regulatory Commission in Docket No. ER97-412-000.

The proposed effective date under this Service Agreement is April 26, 2000 for the above mentioned Service Agreement in this filing.

Comment date: May 19, 2000, in accordance with Standard Paragraph E at the end of this notice.

30. UNITIL Power Corp.

[Docket No. ER86-559-003]

Take notice that on May 1, 2000, UNITIL Power Corp., tendered for filing pursuant to Schedule II Section H of Supplement No. 1 to Rate Schedule FERC No. 1, the UNITIL System Agreement, the following material:

1. Statement of all sales and billing transactions for the period January 1, 1999 through December 31, 1999 along with the actual costs incurred by UNITIL Power Corp. by FERC account.

2. UNITIL Power Corp. rates billed from January 1, 1999 to December 31, 1999 and supporting rate development.

Comment date: May 22, 2000, in accordance with Standard Paragraph E at the end of this notice.

31. Praxair, Inc. (successor in interest to Union Carbide Corporation)

[Docket No. EL00-72-000]

Take notice that, on May 2, 2000, Praxair, Inc. (Praxair), the successor in interest to Union Carbide Corporation, tendered for filing a Petition for Limited Contingent Waiver and Request for Expedited Approval. In its Petition, Praxair seeks a limited and contingent waiver of the Commission's operating and efficiency standards applicable to topping cycle cogeneration facilities. The waiver would be for the duration of a new service agreement Praxair has recently entered into with its local electric utility, pursuant to which the subject cogeneration facility is being temporarily removed from service.

Comment date: May 23, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-12212 Filed 5-15-00; 8:45 am]

BILLING CODE 6717-01-P